DEPARTMENT OF THE INTERIOR

National Park Service

[NPS-WASO-NAGPRA-NPS0030517; PPWOCRADN0-PCU00RP14.R50000]

Notice of Intent To Repatriate Cultural Items: U.S. Department of the Interior, National Park Service, Effigy Mounds National Monument, Harpers Ferry, IA

AGENCY: National Park Service, Interior.

ACTION: Notice.

SUMMARY: The U.S. Department of the Interior, National Park Service, Effigy Mounds National Monument, in consultation with the appropriate Indian Tribes or Native Hawaiian organizations, has determined that the cultural items listed in this notice meet the definition of unassociated funerary objects. Lineal descendants or representatives of any Indian Tribe or Native Hawaiian organization not identified in this notice that wish to claim these cultural items should submit a written request to Effigy Mounds National Monument. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Effigy Mounds National Monument at the address in this notice by September 2, 2020.

ADDRESSES: Jim Nepstad, Superintendent, Effigy Mounds National Monument, 151 Hwy 76, Harpers Ferry, IA 52146, telephone (563) 873-3491 Ext. 101, email jim_nepstad@nps.gov.

SUPPLEMENTARY INFORMATION: Notice is here given in accordance with the Native American Graves Protection and Repatriation Act (NAGPRA), 25 U.S.C. 3005, of the intent to repatriate cultural items under the control of the U.S. Department of the Interior, National Park Service, Effigy Mounds National Monument, Harpers Ferry, IA, that meet the definition of unassociated funerary objects under 25 U.S.C. 3001.

This notice is published as part of the National Park Service's administrative responsibilities under NAGPRA, 25 U.S.C. 3003(d)(3). The determinations in this notice are the sole responsibility of the Superintendent, Effigy Mounds National Monument.

History and Description of the Cultural Items

At an unknown date, three cultural items were removed from an unknown site, likely in Allamakee County, IA. It is not known how they came to be in collections at Effigy Mounds National Monument. Originally accessioned as a loan from a local collector, in 1985 the lender claimed they were not part of his collection. In 1986, human remains that had been collected with the objects were transferred to the Iowa Office of the State Archaeologist for analysis. The remains were retained and reburied by the Office of the State Archaeologist under the authority of the 1976 Iowa Burial Law. The three unassociated funerary objects are two flakes and one sample of red ocher.

In 1950, 112 cultural items were removed from a slumped talus deposit below the Hanging Rock Shelter, in Allamakee County, IA, by NPS archeologist Paul Beaubien. The railroad had cut through the deposit, exposing human remains and artifacts. The human remains did not enter Effigy Mounds National Monument collections and their whereabouts is unknown. The 112 unassociated funerary objects are 110 pottery sherds and two fish bones.

Sometime between 1958 and 1963, 277 cultural items were removed from the Waukon Junction Rockshelter in Allamakee County, IA, by unknown persons, probably as the site was being impacted by highway construction. In 1986, human remains collected with the objects were transferred to the Iowa Office of the State Archaeologist and retained under the authority of the 1976 Iowa Burial Law. The 277 unassociated funerary objects are one shell tool, 87 freshwater mussel shells, two bifaces, one flake, eight unmodified stones, 20 pottery sherds, four utilized flakes, one bone ornament, one modified flake, 147 faunal bones, one stone tool, two woodland variant Tama projectile points, one piece of shatter, and one bone awl.

Based on archeological context, ethnographic information, and oral traditions the unassociated funerary objects described above are identified as belonging to the Woodland tradition. The Woodland tradition transitions into the Oneota tradition which is identified as being clearly ancestral to the Ho-Chunk Nation of Wisconsin.

Determinations Made by the U.S. Department of the Interior, National Park Service, Effigy Mounds National Monument

Officials of the U.S. Department of the Interior, National Park Service, Effigy Mounds National Monument have determined that:

• Pursuant to 25 U.S.C. 3001(3)(B), the 392 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ho-Chunk Nation of Wisconsin.

Additional Requestors and Disposition

Lineal descendants or representatives of any Indian Tribe or Native Hawaiian organization not identified in this notice that wish to claim these cultural items should submit a written request with information in support of the claim to Jim Nepstad, Superintendent, Effigy Mounds National Monument, 151 Hwy 76, Harpers Ferry, IA 52146, telephone (563) 873-3491 Ext. 101, email jim_nepstad@nps.gov, by September 2, 2020. After that date, if no additional claimants have come forward, transfer of control of the unassociated funerary objects to the Ho-Chunk Nation of Wisconsin may proceed.

The U.S. Department of the Interior, National Park Service, Effigy Mounds National Monument is responsible for notifying the Crow Creek Sioux Tribe of the Crow Creek Reservation, South Dakota; Flandreau Santee Sioux Tribe of South Dakota; Ho-Chunk Nation of Wisconsin; Iowa Tribe of Kansas and Nebraska; Iowa Tribe of Oklahoma; Lower Sioux Indian Community in the State of Minnesota; Omaha Tribe of Nebraska; Otoe-Missouria Tribe of Indians, Oklahoma; Ponca Tribe of Nebraska; Prairie Island Indian Community in the State of Minnesota; Sac & Fox Nation of Missouri in Kansas and Nebraska; Sac & Fox Nation, Oklahoma; Sac & Fox Tribe of the Mississippi in Iowa; Santee Sioux Nation, Nebraska; Shakopee Mdewakanton Sioux Community of Minnesota; Sisseton-Wahpeton Oyate of the Lake Traverse Reservation, South Dakota; Standing Rock Sioux Tribe of North & South Dakota; Upper Sioux Community, Minnesota; Winnebago Tribe of Nebraska; and the Yankton Sioux Tribe of South Dakota that this notice has been published.

Dated: June 25, 2020.
Melanie O'Brien,
Manager, National NAGPRA Program.

[FR Doc. 2020-16779 Filed 7-31-20; 8:45 am]

BILLING CODE 4312-52-P